DEPARTMENT OF COMMERCE

International Trade Administration

Overseas Trade Missions

AGENCY: International Trade Administration, Department of Commerce.

ACTION: Notice.

SUMMARY: The Department of Commerce invites U.S. companies to participate in the below listed overseas trade missions. For a more complete description of each trade mission, obtain a copy of the mission statement from the Project Officer indicated for each mission below. Recruitment and selection of private sector participants for these missions will be conducted according to the Statement of Policy Governing Department of Commerce Overseas Trade Missions dated March 3, 1997.

Automation and Energy Management Trade Mission to Belgium and Germany

October 21-25, 2002.

Recruitment closes on October 1, 2002.

For further information contact: Mr. Tony von der Muhll, U.S. Department of Commerce, telephone 202-482-2390, e-mail Tony_von-der-Muhll@ita.doc.gov.

Automotive Parts and Services Trade Mission to Poland, Hungary and Slovakia

March 17-21, 2003.

Recruitment closes on January 31, 2003.

For further information contact: Ms. Monica McFarlane, U.S. Department of Commerce, telephone 202-482-3364, e-mail Monica.McFarlane@mail.doc.gov.

Health Care Technologies Trade Mission to Sweden, Denmark and Norway

March 17-21, 2003.

Recruitment closes on January 31, 2003.

For further information contact: Mr. Bill Kutson, U.S. Department of Commerce, telephone 202-482-2839, e-mail William.Kutson@mail.doc.gov.

Automotive Parts and Service Equipment Mission to Costa Rica, Guatemala and Panama

June 1-7, 2003.

Recruitment closes on April 18, 2003.

For further information contact: Ms. Jayne Woodward, U.S. Department of Commerce, telephone 803-253-3612, e-mail Jayne.Woodward@mail.doc.gov.

For further information contact: Mr. Thomas Nisbet, U.S. Department of Commerce, telephone 202-482-5657, or e-mail Tom_Nisbet@ita.doc.gov.

Dated: August 13, 2002.
Thomas H. Nisbet,
Director, Export Promotion Coordination, Office of Planning, Coordination and Management.

[FR Doc. 02-20922 Filed 8-16-02; 8:45 am]

BILLING CODE 3510-DR-P